DEPARTMENT OF DEFENSE

Defense Acquisition Regulations System

48 CFR Part 204

RIN 0750-AH80

Defense Federal Acquisition Regulation Supplement; Clarification of “F” Orders in the Procurement Instrument Identification Number Structure (DFARS Case 2012-D040); Correction

AGENCY: Defense Acquisition Regulations System, Department of Defense (DoD).

ACTION: Final rule; correction.

SUMMARY: This document corrects the amendatory language to a final rule published in the Federal Register on May 22, 2013, 78 FR 30231, regarding the Defense Federal Acquisition Regulation Supplement: Clarification of “F” Orders in the Procurement Instrument Identification Number Structure (DFARS Case 2012-D040). This correction makes one correction to the amendatory language.

DATES: Effective Date: June 6, 2013.

FOR FURTHER INFORMATION CONTACT: Fernell Warren, telephone 571-372-6089.

SUPPLEMENTARY INFORMATION:

Correction

In the Federal Register of May 22, 2013 (78 FR 30231) in the amendatory language, correct the following:

204.7003 [Corrected]

1. On page 30232, in the left hand column, amendatory instruction 2 is corrected to read as follows:

“2. Section 204.7003 is amended by revising paragraphs (a)(3)(iii) and (vi) to read as follows:”

Kortnee Stewart,
Editor, Defense Acquisition Regulations System.

[FR Doc. 2013-13405 Filed 6-5-13; 8:45 am]

BILLING CODE 5001-06-P